SMALL BUSINESS ADMINISTRATION

[Declaration of Disaster #3534]

State of Ohio; (Amendment #4)

In accordance with a notice received from the Department of Homeland Security—Federal Emergency Management Agency, effective September 5, 2003, the above numbered declaration is hereby amended to include Richland County as a disaster area due to damages caused by tornadoes, flooding, severe storms and high winds occurring on July 21, 2003 and continuing through August 25, 2003.

In addition, applications for economic injury loans from small businesses located in the contiguous counties of Crawford, Huron, Knox and Morrow in the State of Ohio may be filed until the specified date at the previously designated location. All other counties contiguous to the above named primary county have been previously declared.

All other information remains the same, i.e., the deadline for filing applications for physical damage is September 30, 2003, and for economic injury the deadline is May 3, 2004.

Dated: September 12, 2003.
(Catalog of Federal Domestic Assistance Program Nos. 59002 and 59008).
Cheri L. Cannon,
Acting Associate Administrator for Disaster Assistance.

[FR Doc. 03-23976 Filed 9-18-03; 8:45 am]

BILLING CODE 8025-01-P